DEPARTMENT OF COMMERCE

Foreign-Trade Zones Board

[B-14-2015]

Foreign-Trade Zone 21—Charleston, South Carolina Application for Reorganization/Expansion Under Alternative Site Framework

An application has been submitted to the Foreign-Trade Zones (FTZ) Board by the South Carolina State Ports Authority, grantee of FTZ 21, requesting authority to reorganize and expand the zone under the alternative site framework (ASF) adopted by the FTZ Board (15 CFR 400.2(c)). The ASF is an option for grantees for the establishment or reorganization of zones and can permit significantly greater flexibility in the designation of new subzones or “usage-driven” FTZ sites for operators/users located within a grantee's “service area” in the context of the FTZ Board's standard 2,000-acre activation limit for a zone. The application was submitted pursuant to the Foreign-Trade Zones Act, as amended (19 U.S.C. 81a-81u), and the regulations of the Board (15 CFR part 400). It was formally docketed on February 25, 2015.

FTZ 21 was approved by the FTZ Board on June 12, 1975 (Board Order 106, 40 FR 25613, June 17, 1975), and expanded on February 28, 1995 (Board Order 734, 60 FR 12735, March 8, 1995), on June 20, 1996 (Board Order 832, 61 FR 33491, June 27, 1996), on October 23, 1996 (Board Order 850, 61 FR 57383-57384, November 6, 1996), on June 20, 1997 (Board Order 905, 62 FR 36044-36045, July 3, 1997), on September 5, 1997 (Board Order 918, 62 FR 48591, September 16, 1997), on July 25, 2000 (Board Order 1112, 65 FR 47953, August 4, 2000) and on April 1, 2010 (Board Order 1675, 75 FR 24583-24584, May 5, 2010).

The current zone includes the following sites: Site 5 (267 acres)—terminal complex at the Port of Charleston, 1 Immigration St., Charleston; Site 6 (19 acres)—Meadow Street Business Park, 4 Meadow St., Loris; Site 9 (548 acres)—Charleston Business Park, Clements Ferry Road, Charleston; Site 15 (24 acres)—Robert Bosch Inc., 3298 Benchmark Drive and 4597 Appian Way, North Charleston; Site 16 (343 acres)—Bushy Park Industrial Park, 1588 Bushy Park Rd., Goose Creek; Site 17 (190 acres, sunset 4/30/15)—Jedburg Industrial Park, 1090 Newton Way, Summerville; Site 18 (291 acres, sunset 4/30/15)—Rockefeller Foreign-Trade Zone, Drop Off Road and Interstate 26, Summerville; Site 21 (445 acres, sunset 4/30/15)—Orangeburg City/County Industrial Park, 348 Millennium Drive, Orangeburg; Site 22 (284 acres, expires 4/30/15)—Southern Patio Industrial Park, 1000 Southern Patio Parkway, Rowesville; Site 23 (178 acres, sunset 4/30/15)—Colleton County Commerce Park, Interstate 95 and McLeod Road, Walterboro; Site 26 (7.98 acres, expires 12/31/15)—MAHLE Behr Charleston, Inc., 4500 Leeds Avenue, Charleston; Site 27 (2 acres, expires 12/31/15)—Tides Trading Enterprises, 578 Meeting St., Charleston; Site 28 (4 acres, expires 12/31/15)—Tides Trading Enterprises, 2509 Clements Ferry Road, Charleston; Site 29 (8 acres, expires 12/31/15)—PTR Industries, 101 Cool Springs Drive, Aynor; Site 30 (5.5 acres, expires 12/31/15)—CMMC, LLC, 1210 Truxtun Avenue, N. Charleston; Site 31 (6 acres, expires 12/31/15)—American Tactical Imports, Inc., 231 Deming Way, Summerville; and, Site 32 (12 acres, expires 12/31/15)—Alkane Trucks/CLG-SC, Inc., 2725 W. 5th North Street, Summerville.

The grantee's proposed service area under the ASF would be: The Counties of Charleston, Berkeley, Dorchester and Orangeburg within and adjacent to the Charleston Customs and Border Protection port of entry; the Counties of Williamsburg and Georgetown in their entirety and portions of Horry, Florence, and Marion Counties within and adjacent to the Georgetown, South Carolina Customs and Border Protection port of entry; and, the Counties of Colleton, Jasper, Hampton and Beaufort adjacent to the Savannah, Georgia Customs and Border Protection port of entry, as described in the application. If approved, the grantee would be able to serve sites throughout the service area based on companies' needs for FTZ designation.

The applicant is requesting authority to reorganize and expand its existing zone as follows: Modify Site 5 by restoring 109 acres at Parcel 5—Coal Tipple and by including 109 acres at Parcel 7—Columbus Street Terminal on a permanent basis (new total acreage = 376 acres); Sites 5 (modified), 9, 16, 17, 18, 21, 22 and 23 would become “magnet” sites; and, Sites 6, 15, 26, 27, 28, 29, 30, 31 and 32 would become “usage-driven” sites. The ASF allows for the possible exemption of one magnet site from the “sunset” time limits that generally apply to sites under the ASF, and the applicant proposes that Site 5 be so exempted. No subzones/usage-driven sites are being requested at this time. The application would have no impact on FTZ 21's previously authorized subzones.

In accordance with the FTZ Board's regulations, Kathleen Boyce of the FTZ Staff is designated examiner to evaluate and analyze the facts and information presented in the application and case record and to report findings and recommendations to the FTZ Board.

Public comment is invited from interested parties. Submissions shall be addressed to the FTZ Board's Executive Secretary at the address below. The closing period for their receipt is May 4, 2015. Rebuttal comments in response to material submitted during the foregoing period may be submitted during the subsequent 15-day period to May 18, 2015.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Kathleen Boyce at Kathleen.Boyce@trade.gov or (202) 482-1346.

Dated: February 26, 2015.
Andrew McGilvray,
Executive Secretary.

[FR Doc. 2015-04505 Filed 3-3-15; 8:45 am]

BILLING CODE 3510-DS-P